DEPARTMENT OF ENERGY

Federal Energy Regulatory Commission

[Docket No. EL12-85-000]

Notice of Complaint; Keryn Newman v. Potomac-Appalachian Transmission Highline, LLC

Take notice that on July 18, 2012 pursuant to Rules 206 and 218 of the Federal Energy Regulatory Commission's (Commission) Rules of Practice and Procedure, 18 CFR 385.206 and 385.218 and section 206 of the Federal Power Act, 16 U.S.C. 824(e) and 825(e), Keryn Newman (Complainant) filed a formal complaint against Potomac-Appalachian Transmission Highline, LLC (Respondent) alleging that Respondent violated its Formula Rate Implementation Protocols by refusing to provide information properly requested by an Interested Party in accordance with Section VI of the Protocols.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 7, 2012.

Dated: July 19, 2012.
Kimberly D. Bose,
Secretary.

[FR Doc. 2012-18162 Filed 7-24-12; 8:45 am]

BILLING CODE 6717-01-P